DEPARTMENT OF THE TREASURY

Financial Crimes Enforcement Network

Agency Information Collection Activities: Proposed New Information Collection; Survey of the Costs of AML/CFT Compliance; Comment Request

AGENCY: Financial Crimes Enforcement Network (FinCEN), Treasury.

ACTION: Notice and request for comments.

SUMMARY: The Financial Crimes Enforcement Network (FinCEN), as part of its obligations under the Paperwork Reduction Act of 1995 (PRA), invites the general public and other Federal agencies to take this opportunity to comment on a proposed information collection, a Survey of the Costs of Anti-Money Laundering and Countering the Financing of Terrorism (AML/CFT) Compliance. The survey seeks to gather information on the direct compliance costs incurred by non-bank financial institutions (NBFIs), described below, with AML/CFT compliance requirements and, to the extent these expenses overlap with those of other activities (such as fraud monitoring), the amount attributable to AML/CFT compliance. FinCEN is seeking a new Office of Management and Budget (OMB) Control Number for this information collection.

DATES: Written comments are welcome and must be received on or before December 1, 2025.

ADDRESSES: Comments may be submitted by any of the following methods:

• Federal E-rulemaking Portal: http://www.regulations.gov. Follow the instructions for submitting comments. Refer to Docket Number FINCEN-2025-0105.

• Mail: Policy Division, Financial Crimes Enforcement Network, P.O. Box 39, Vienna, VA 22183. Refer to Docket Number FINCEN-2025-0105.

Please submit comments by one method only. Comments will be reviewed consistent with the PRA and applicable OMB regulations and guidance. Do not include any personally identifiable information (such as name, address, or other contact information) or confidential business information that you do not want publicly disclosed. All comments are public records; they are publicly displayed exactly as received, and will not be deleted, modified, or redacted. Comments may be submitted anonymously.

A copy of the comments may also be submitted to the OMB desk officer for FinCEN: Office of Information and Regulatory Affairs, Office of Management and Budget, New Executive Office Building, Washington, DC 20503.

FOR FURTHER INFORMATION CONTACT: FinCEN's Regulatory Support Section by submitting an inquiry at www.fincen.gov/contact.

SUPPLEMENTARY INFORMATION: FinCEN is requesting OMB approval for the following collection of information:

Title: Cost of AML/CFT Compliance Survey.

OMB Control Number: 1506-NEW.

Frequency of Response: Once.

Affected Public: Certain NBFIs with AML/CFT compliance requirements. The NBFIs with AML/CFT compliance requirements affected by this notice include the following types of entities: casinos and card clubs; money services businesses (MSBs); insurance companies; dealers in precious metals, precious stones, or jewels (PMSJs); operators of credit card systems; and loan or finance companies.

Estimated Number of Respondents:

Type of NBFI | Number of respondents
Casinos and card clubs ᵃ | ᵇ 1,292
MSBs (Principals) ᶜ | ᵈ 28,456
MSBs (Agents) | 229,161
Insurance companies ᵉ | ᶠ 718
PMSJs ᵍ | ʰ 6,742
Operators of credit card systems ⁱ | ʲ 4
Loan or finance companies ᵏ | ˡ 13,342
Total | 279,715
ᵃ See 31 U.S.C. 5312(a)(2)(X); see also 31 CFR 1010.100(t)(5)-(6).
ᵇ Estimate based on the American Gaming Association (AGA) “State of the States” (available at https://www.americangaming.org/wp-content/uploads/2024/05/AGA-State-of-the-States-2024.pdf).
ᶜ See 31 U.S.C. 5312(a)(2)(J,K,R); see also 31 CFR 1010.100(t)(3); 31 CFR 1010.100(ff) (definition of money services business).
ᵈ The definition of MSB (31 CFR 1010.100(ff)) covers both principal MSBs and agents. The topline value for all MSBs represents the average number of uniquely identifiable registered MSBs with indicia of ongoing operations as of the three year-ends 2022-2024, and primarily includes only principal MSBs required to register with FinCEN. FinCEN has estimated that the number of agent MSBs is approximately 229,161 (see 89 FR 65971 (Aug. 13, 2024)).
ᵉ See 31 U.S.C. 5312(a)(2)(M); see also 31 CFR 1025.100(g) (definition of “insurance company or insurer” for purposes of applicability of FinCEN regulations).
ᶠ This estimate includes 718 life and health (L&H) insurers in the United States during 2023. From U.S. Treasury “Annual Report on the Insurance Industry,” (Sept. 2024). Neither the estimate presented here nor the estimate of broker-dealers' controls for entities that may be both a broker-dealer and an insurance company; thus, a certain number of affected entities may be double-counted. However, based on consultation with staff of other Federal regulators, FinCEN believes this population of dually affected entities may be relatively small and unlikely to significantly distort the overall assessment.
ᵍ See 31 U.S.C. 5312(a)(2)(N); see also 31 CFR 1027.100(b) (definition of a “dealer” in precious metals, stones, or jewels for purposes of applicability of FinCEN regulations).
ʰ This estimate is based on data on entities with North American Industry Classification System (NAICS) code 423940 (Jewelry, Watch, Precious Stone, and Precious Metal Merchant Wholesalers) published at year-end 2024 in the 2022 Survey of U.S. Businesses (“2022 SUSB Data”) accessed March 1, 2025 (https://www.census.gov/data/tables/2022/econ/susb/2022-susb-annual.html). It does not include Jewelry and Silverware Manufacturing (NAICS code 33991) or Jewelry Retailers (NAICS code 44831).
ⁱ See 31 U.S.C. 5312(a)(2)(L); see also 31 CFR 1028.100(e) (definition of “operator of a credit card system” for purposes of applicability of FinCEN regulations).
ʲ This value is based on FinCEN review of active, U.S.-based market participants at year-end 2023.
ᵏ See 31 U.S.C. 5312(a)(2)(P) (definition of “loan or finance company”); see also 31 CFR 1010.100(lll).
ˡ This estimate is based on 2022 SUSB Data on entities with NAICS codes 522292 (Real Estate Credit) and 522310 (Mortgage and Non-Mortgage Loan Brokers).

Estimated Annual Burden: FinCEN estimates a total burden for OMB control number 1506-NEW of 2,237,720 hours. FinCEN expects 279,715 respondents for the survey and expects each respondent will take eight hours to complete the survey. This is a high estimate to account for the use of the survey instrument by other agencies with more complex respondents.

General Description of Collection: This information collection will seek information on AML/CFT compliance costs and related topics via survey. The survey is voluntary. The purpose of the survey is to better understand the cost of AML/CFT compliance for NBFIs. The information gathered will help assess the cumulative impact of AML/CFT regulations and may inform efforts to adjust regulatory obligations and advance deregulatory proposals consistent with the Executive Orders of the Trump administration. The data may also support the development of deregulatory rulemakings or guidance to reduce compliance burden without compromising the effectiveness of current AML/CFT frameworks. Responses will not be used for supervisory or enforcement purposes.

Interested members of the public may view the proposed survey questionnaire on the following web page: www.fincen.gov/news/news-releases/fincen-seeks-comments-proposed-survey-costs-amlcft-compliance.

Request for Comment

Comments are invited on: (a) whether the collection of information is necessary for the proper performance of FinCEN's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Andrea M. Gacki,
Director, Financial Crimes Enforcement Network.

[FR Doc. 2025-18918 Filed 9-29-25; 8:45 am]

BILLING CODE 4810-02-P